DEPARTMENT OF HUMAN AND HEALTH SERVICES

Indian Health Service

Partners Invited To Participate in Indian Health Service: Health Promotion and Disease Prevention Health Summit and Other American Indian/Alaska Native Tribe, Tribal Entity Activities

AGENCY: Indian Health Service, Department of Health and Human Service (HHS).

ACTION: Notice of invitation to participate in Health Promotion and Disease Prevention (HP/DP) Health Summit.

SUMMARY: The Indian Health Service (IHS), in an ongoing partnership with American Indian and Alaska native (AI/AN) people in order to elevate the health status of this population to its highest level, is seeking to collaborate with other public and private organizations to support its many programs and initiatives. Despite concerted and sustained efforts by the IHS and Tribal programs, substantial disparities in health persist for AI/AN people, compared to the overall United States (U.S.) population. For this reason, the IHS has planned an ambitious initiative on HP/DP, the “Healthier Indian Communities through Partnership and Prevention Summit,” to be held on September 21-24, 2004 in Washington, DC. A pre-summit IHS/HHS/tribal leaders meeting will be held on September 21, 2004.

At the HP/DP Summit, the IHS will explore with interested public and private organizations, the risk behaviors that contribute to the chronic lifestyle diseases that impact many AI/AN communities. Included topics will be preventing diabetes among at-risk populations, increasing the likelihood that persons with undiagnosed diabetes are diagnosed, reducing complications of diabetes, preventing and reducing overweight and obesity, and reducing the complications of asthma. The HP/DP Summit will provide an opportunity to meet with organizations and entities that have achieved these outcomes by improving nutrition, increasing physical activity, preventing tobacco use and exposure, increasing tobacco cessation, increasing the use of appropriate health care services, improving the quality of health care, and increasing effective self-management of chronic diseases and associated risk factors.

At the HP/DP Summit, the IHS goal is to meet with potential partners in Tribal and community-focused programs that include the full engagement of schools, businesses, faith-communities, health care purchasers, health plans, health care providers, academic institutions, senior centers, and many other community sectors working together to promote health and prevent chronic disease. At the HP/DP Summit, the IHS will present partnership opportunities such as: (1) Healthy Native Communities Fellowship Program; (2) Building Alliances for Communities in Action for Wellness (Resource Roundtable Conferences); (3) Community Wellness Champion Forums; and (4) the Just Move It campaign. In the future, the IHS plans to work together with partners to promote health and prevent disease throughout Indian country. It is intended that these partnerships will create opportunities for businesses and other organizations to participate in shaping a healthier U.S. More information about the Summit is available at http://www.ihs.gov/hpdp.

DATES: Comments expressing or affirming an interest in co-sponsoring of the HP/DP Summit—“Healthier Indian Communities through Partnership and Prevention”—and/or partnerships with the IHS should be received within 45 days of publication of this notice. The Summit, “Healthier Indian Communities through Partnership and Prevention,” will take place September 21-24, 2004, in Washington, DC. Contact information to permit further discussion and consideration of ideas of mutual interest may be sent to the e-mail address set out in the next paragraph.

ADDRESSES: Expressions of interest, comments and questions may be sent to the following e-mail address, abecenti@hqe.ihs.gov or by regular mail with contact information, as appropriate, to: Alberta Becenti, Office of Public Health, Reyes Building, 801 Thompson Avenue, Suite 320, Rockville, MD 20852-1627. Organization representatives may also call an information line at (301) 443-4305. Callers will be directed to appropriate agency officials or to other collaborating partners with similar or complementary interests for further discussions.

SUPPLEMENTARY INFORMATION: The IHS is the Federal agency responsible for delivering direct health care services to more than 560 Federally-recognized AI/AN tribes. Meeting the health needs of Indian communities requires effective partnerships and collaborations so that all components of a healthy community can be addressed. The IHS is focusing on the importance of partnerships, community and prevention. The IHS HP/DP Summit will focus on the present and future directions of HP/DP for AI/AN.

The conference will increase opportunities to share information, present the health status and challenges of Indian country today, and create and expand opportunities to partner and share HP/DP best and promising practices.

Partnership With Private Sector Organizations

The IHS has limited resources with which to achieve implementation of such large-scale nationwide changes. Moreover, to achieve numerous behavioral changes, the involvement of both public and private organizations is necessary. For efforts of this magnitude, the Agency periodically invites outside organizations to join in carrying out activities of mutual interest to achieve shared objectives. These partnerships are voluntary. The parties work together to carry out their respective, consistent missions for the common good. In accordance with each entity's particular strengths and abilities, partnerships will be established; each partner will be responsible for providing the resources necessary to carry out specified activities of mutual interest. As partners with the IHS, both public and private sector organizations can bring their respective ideas and expertise, administrative capabilities, and production and material resources. Examples include sharing in the development of educational health information and its distribution to employees or to the public to promote healthy lifestyles in order to prevent chronic diseases, developing programs aimed at improving consumers' understanding of how proper dietary choices and physical activity can improve health and prevent obesity and other chronic diseases, or providing practical guidance and information on how to obtain diagnostic and treatment services.

Partnership agreements will make clear that there will be no Federal endorsement of commercial products or of particular companies.

The IHS has a right to review the use of IHS HP/DP Summit logos and statements related to the HP/DP Summit on such materials and products to ensure that they are suitable and that Government neutrality with respect to commercial products is maintained. Partnership agreements will make clear that potential partners are carrying out their own program in conjunction with the IHS goals. When the HP/DP Summit logo is approved for use on commercial materials or products that promote health and prevent disease, a disclaimer will be required to be printed on, or affixed to commercial partner materials and products indicating that the use of the logo does not imply any Federal endorsement or warranty of a particular commercial product or of other products of a particular company.

Evaluation Criteria

After engaging in exploratory discussions of potential partnerships and partnership activities with respondents, the following considerations will be used by the IHS officials, as appropriate and relevant, to ensure the partnership activities with particular entities and the scope of those activities achieve the mission of the IHS.

1. Has the outside entity demonstrated a willingness to work collaboratively with other public and private sector organizations to achieve the stated goals of the IHS goals or to advance related efforts, activities, or initiatives?

2. Are the activities proposed by the offering entity likely to provide a substantial public health benefit that is consistent with the IHS and HHS goals?

3. Does the proposed partnership's potential for public health benefit outweigh any appearance of conflict that may potentially have a negative impact on the Agency and its ability to accomplish its missions?

4. What adjustments, if any, would make the proposal acceptable?

5. Does the outside entity have the expertise and capacity to carry out its proposed activities?

Given the IHS HP/DP Summit goals and consistent interests, entities that wish to partner with the IHS and Tribal governments to support its efforts are encouraged to reply to this notice. Working together, it is intended that these partnerships will provide innovative opportunities to support and honor AI/AN communities at the IHS HP/DP Summit. The HP/DP Summit is funded by the IHS.

Dated: July 2, 2004.
Charles W. Grim,
Assistant Surgeon General, Director.

[FR Doc. 04-15713 Filed 7-9-04; 8:45 am]

BILLING CODE 4160-16-M